DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat, in two sheets, representing the entire survey record of the dependent resurvey of a portion of the subdivisional lines, and the subdivision of sections 12 and 13, T. 7 S., R. 34 E., of the Boise Meridian, Idaho, Group Number 1148, was accepted July 15, 2010.

The plat constituting the entire survey record of the dependent resurvey of a portion of the subdivisional lines and the subdivision of sections 8, 9, and 17, T. 6 S., R. 35 E., of the Boise Meridian, Idaho, Group Number 1283, was accepted August 24, 2010.

The supplemental plat in section 19, T. 2 N., R. 10 E., of the Boise Meridian, Idaho, Group Number 1337, was prepared to show amended lottings, was accepted September 30, 2010.

These surveys were executed at the request of the Bureau of Indian Affairs to meet their administrative needs. The lands surveyed are:

The field notes representing the remonumentation of the ¼ section corner of sections 31 and 32, T. 36 N., R. 1 E., Boise Meridian, Idaho, Group Number 1000, was accepted July 2, 2010.

The plat constituting the entire survey record of the dependent resurvey of a portion of the subdivision of section 15, and a metes-and-bounds survey in the NW1/4 of the NW1/4 of section 15, T. 33 N., R. 3 E., Boise Meridian, Idaho, Group Number 1309, was accepted July 14, 2010.

The plat representing the dependent resurvey of portions of the south boundary, north boundary, and subdivisional lines, and the subdivision of sections 11, 26, and 35, and the metes-and-bounds survey of Tract 37, T. 4 S., R. 43 E., of the Boise Meridian, Idaho, Group Number 1277, was accepted July 22, 2010.

The plat constituting the retracement of a portion of the new south boundary of the Fort Hall Indian Reservation, portions of the south boundary and subdivisional lines and the metes-and-bounds survey of tract numbers 37 and 38 in sections 27 and 34, T. 5 S., R. 34 E., of the Boise Meridian, Idaho, Group Number 1294, was accepted September 29, 2010.

The plat representing the dependent resurvey of a portion of the subdivisional lines, and the corrective dependent resurvey of portions of the subdivisional lines and the subdivision of section 20, and the metes-and-bounds survey of Tracts 37, 38, and 39, T. 7 S., R. 36 E., of the Boise Meridian, Idaho, Group Number 1300, was accepted September 30, 2010.

The plat in six sheets, representing the dependent resurvey of portions of the south boundary and east boundary, and the subdivisional lines, and the subdivision of certain sections, metes-and-bounds surveys in sections 15 and 16, and the survey of the 2008-2010 meanders of the Blackfoot River in sections 10, 11, 12, 15, 16, 17, 18, and 19 and the north boundary of the Fort Hall Indian Reservation in sections 10, 11, 12, 15, 16, 17, 18, and 19, and a portion of the 2008-2010 median line in section 10, T. 2 S., R. 37 W., of the Boise Meridian, Idaho, Group Number 1268, was accepted September 30, 2010.

The survey was executed at the request of the U. S. Forest Service, to meet their administrative needs. The lands surveyed are:

The supplemental plat of Tract 37, T. 43 N., R. 3 W., of the Boise Meridian, Idaho, Group Number 1330, was accepted September 1, 2010.

Dated: October 6, 2010.
Stanley G. French,
Chief Cadastral Surveyor for Idaho.

[FR Doc. 2010-26116 Filed 10-15-10; 8:45 am]

BILLING CODE 4310-GG-P